POSTAL SERVICE

39 CFR Part 111

Domestic Shipping Services Product Launch of Parcel Select Regional Ground

AGENCY: Postal Service ™.

ACTION: Final rule.

SUMMARY: The Postal Service is revising Mailing Standards of the United States Postal Service, Domestic Mail Manual (DMM®), to introduce a new competitive shipping option, Parcel Select Regional Ground ™ service.

DATES: Effective Date: April 17, 2011.

FOR FURTHER INFORMATION CONTACT: Karen Key at (202) 268-7492 or Carol A. Lunkins at (202) 268-7262.

SUPPLEMENTARY INFORMATION: On February 16, 2011, Governors of the United States Postal Service approved classification changes outlined by USPS® on the introduction of Parcel Select Regional Ground service. This final rule describes pricing, product features, and mailing standards for Parcel Select Regional Ground.

Parcel Select Regional Ground is a new commercial plus shipping option for mailers who ship lightweight parcels primarily destined for USPS zones local, 1, 2, and 3. This competitive, nonpresort product is a category of Parcel Select and is available for mailers who enter barcoded, machinable parcels weighing 5 pounds or less, pay postage with permit imprint, and enter mailpieces at origin Sectional Center Facility (OSCF) and origin Network Distribution Center (ONDC) locations authorized to accept Parcel Select Regional Ground mailings. When either the Intelligent Mail® package barcode or a Confirmation Services barcode is used, Parcel Select Regional Ground service includes optional electronic Delivery Confirmation ™ service at no additional charge, which allows mailers to confirm delivery of their packages. Merchandise Return Service cannot be used for items returned at Parcel Select Regional Ground prices.

This domestic product will be available to 48 of the continental United States, excluding Hawaii, Alaska, territories and possessions, and freely associated States.

Price Application

Parcel Select Regional Ground prices are based on the weight increment and the zone to which the piece is addressed. The minimum price per piece is the 1-pound price. Mailpieces that do not meet the eligibility requirements will be charged the Parcel Select barcoded, nonpresort price.

Authorization

To qualify for Parcel Select Regional Ground prices, mailers must have a customer commitment agreement with the Postal Service; customers may contact their account manager or the manager, Solutions Development by e-mailing commercialpricing@usps.gov.

Eligibility and Postage Payment

Parcel Select Regional Ground parcels must measure .35 cubic foot or less, weigh 5 pounds or less, bear a designated postal routing and tracking barcode(s), and be a machinable parcel.

Parcel Select Regional Ground prices are available to customers who:

• Establish a customer commitment agreement with USPS.

• In succeeding years, maintain account volumes that exceed 10,000 Parcel Select Regional Ground parcels in the previous calendar year.

• Pay for postage using a permit imprint.

• Enter mailpieces with a routing barcode included as part of a concatenated Intelligent Mail package barcode (IMpb) or a Confirmation Services GS-128 barcode. Optionally, a postal routing barcode may be printed separately with a non-concatenated barcode.

• Enter a minimum of 200 pieces or 50 pounds of mail for each mailing.

• Use the Electronic Verification System (eVS®) or submit an electronic postage statement with a computerized manifest.

• Enter mailings destined for zones local, 1, 2, and 3 at eligible eVS OSCF and/or mailings destined for zones local—8 at ONDC locations.

Extra Services and Other Services

The following extra services are allowed with Parcel Select Regional Ground items: Delivery Confirmation (electronic option only), Signature Confirmation (electronic option only), insurance, and Hold For Pickup service.

Markings and Mail Preparation

The basic required marking “Parcel Select—Regional Ground” must be printed on each piece claimed at this price. The basic required marking must be placed in the postage area (printed or produced as part of, or directly below or to the left of, the permit imprint indicia). Optionally, the basic required marking may be printed on the shipping address label as service indicators composed of a service icon and service banner as follows:

• The service icon that identifies the marking must be a 1-inch solid black square with a “G” printed in 16-point bold sans serif typeface, uppercase letters in white print, centered within the square, and it must appear in the upper left corner of the shipping label.

• The service banner must appear directly below the postage payment area and the service icon, and it must extend across the shipping label. The appropriate marking “PARCEL SELECT—RG” must be preceded by the text “USPS” and must be printed in minimum 20-point bold sans serif typeface, uppercase letters, centered within the banner, and bordered above and below by minimum 1-point separator lines. There must be a 1/16-inch clearance above and below the text.

Each piece in a Parcel Select Regional Ground mailing must bear an additional price marking. Markings must appear in either the postage area or in the address area on the line directly above or two lines above the address if the marking appears alone (when no other information appears on that line). The following price markings are required:

• Origin SCF Entry—“OSCF”.

• Origin NDC Entry—“ONDC”.

When using the Electronic Verification System (eVS), the marking “eVS” (or the alternative “e-VS” or “E-VS”) must appear directly below the permit number.

All Parcel Select Regional Ground mailpieces must bear a delivery address that includes the correct ZIP Code ™ or ZIP+4® code. Each piece must bear the sender's return address.

Deposit and Entry

Parcel Select Regional Ground mailings may be entered according to the following levels:

OSCF Entry

• Mailings that are entered at the OSCF must include only mailpieces destined for zones local, 1, 2, and 3, but pieces may be destined for addresses outside that OSCF service area.

• No other mailings may be combined on the same postage statement or commingled in the same container with OSCF Parcel Select Regional Ground mailpieces.

ONDC Entry

• Mailings that are entered at the ONDC for zones local—8 are required to have the mailpieces within the ONDC service area segregated from the pieces outside the ONDC service area according to L601.

• No other mailings may be combined on the same postage statement or commingled in the same container with ONDC Parcel Select Regional Ground mailpieces.

Mailings may not be dropped in collection boxes, picked up by carriers, or entered at retail Post Office ™ locations. All mailings must be presented for verification and acceptance where the permit is held. All such mailings must be deposited at locations and times specified by the postmaster or designee at the approved offices (co-located at OSCF and ONDC locations) that will verify and accept the mailing.

A completed and signed PS Form 3605-R, Postage Statement—Package Services, must accompany all mailings, unless eVS is used.

In accordance with the Postal Accountability and Enhancement Act, on February 17, 2011, the Postal Service filed a Notice with the Postal Regulatory Commission (PRC) regarding Parcel Select Regional Ground. Regulatory review may take up to 30 days from that date.

The Postal Service adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

400 Commercial Parcels

401 Physical Standards

1.0 Physical Standards for Parcels

* * * * *

1.3 Maximum Weight and Size

[Revise the second and third sentences of 1.3 to incorporate Regional Ground as follows:]

* * * Lower weight limits apply to Priority Mail mailed at Commercial Plus Cubic and Regional Rate Box prices, First-Class Mail, Standard Mail, Parcel Select Regional Ground, and Bound Printed Matter. Pieces may not measure more than 108 inches in length and girth combined, except Parcel Select. Parcel Select Regional Ground parcels may not measure more than .35 cubic foot, and Parcel Select parcels may not measure more than 130 inches in length and girth combined. * * *

* * * * *

2.0 Additional Physical Standards by Class of Mail

* * * * *

2.5 Parcel Select

* * * * *

[Add new 2.5.3 as follows:]

2.5.3 Parcel Select Regional Ground

These standards apply to Parcel Select Regional Ground mailpieces:

a. Measure .35 cubic foot or less.

b. Be a machinable parcel.

c. Weigh 5 pounds or less.

* * * * *

402 Elements on the Face of a Mailpiece

* * * * *

2.0 Placement and Content of Markings

* * * * *

2.5 Parcel Select, Bound Printed Matter, Media Mail, and Library Mail Markings

2.5.1 Basic Markings

[Revise the first sentence of the introductory text of 2.5.1 as follows:]

The basic required marking (e.g., “Parcel Select”, “Parcel Select Regional Ground”, “Bound Printed Matter”, “Media Mail”, “Library Mail”) must be printed on each piece claimed at the respective price. * * *

* * * * *

[Redesignate current item 2.5.1b as item c and add new item b as follows:]

b. For Parcel Select Regional Ground mailpieces, the service icon must be a 1-inch solid black square with a “G” printed in 16-point bold sans serif typeface, uppercase letters in white print, centered within the square, and be in the upper left corner of the shipping label.

[Revise the second sentence of redesignated 2.5.1c to add the Regional Ground markings as follows:]

c. * * * The appropriate marking (e.g., “PARCEL SELECT”, “PARCEL SELECT—RG”, “MEDIA MAIL”) must be preceded by the text “USPS” and be printed in minimum 20-point bold sans serif typeface, uppercase letters, centered within the banner, and bordered above and below by minimum 1-point separator lines. * * *

* * * * *

[Renumber current 2.5.3 through 2.5.6 as 2.5.4 through 2.5.7 and add new 2.5.3 as follows:]

2.5.3 Parcel Select Regional Ground Markings

Each piece in a Parcel Select Regional Ground mailing must bear a price marking of “Parcel Select—Regional Ground” in either the postage area described in 2.5.1 or in the address area on the line directly above or two lines above the address if the marking appears alone. The “Parcel Select” marking by itself is not allowed on any Parcel Select Regional Ground mailpiece. In addition, items entered at an SCF must be marked “OSCF Entry,” and items entered at an NDC must be marked “ONDC Entry” in the same area as the basic price marking.

* * * * *

450 Parcel Select

453 Prices and Eligibility

1.0 Prices and Fees

1.1 Price Application

[Revise introductory paragraph of 1.1 by adding a new second to last sentence as follows:]

* * * For Parcel Select Regional Ground price categories, see 3.4. * * *

* * * * *

[Revise the title of 3.0 as follows:]

3.0 Price Eligibility for Parcel Select and Parcel Select Regional Ground

* * * * *

[Renumber 3.4 through 3.7 as 3.5 through 3.8 and add new 3.4 as follows:]

3.4 Parcel Select Regional Ground

Parcel Select Regional Ground is a nonpresort product which requires postage payment by permit imprint. There are two price categories for Parcel Select Regional Ground:

a. OSCF entry—Mailpieces destined for zones local, 1, 2, and 3.

b. ONDC entry—Mailpieces for zones local—8.

3.4.1 General Eligibility

Parcel Select Regional Ground prices are available for machinable parcels (see 401.1.5), measure .35 cubic foot or less and weigh 5 pounds or less when customers meet the following requirements:

a. Establish a customer commitment agreement with USPS (see 3.4.4).

b. In succeeding years, maintain account volumes that exceed 10,000 Parcel Select Regional Ground parcels in the previous calendar year.

c. Pay for postage using a permit imprint.

d. Apply one of the following routing barcodes on each mailpiece:

1. A routing barcode included as part of a concatenated Intelligent Mail package barcode.

2. A Confirmation Services GS-128 barcode.

3. A postal routing barcode may be printed separately with a non-concatenated barcode under 708.5.0.

e. Pay postage by permit imprint using the Electronic Verification System (eVS) or submit an electronic postage statement with a computerized manifest.

f. Enter mailings at eligible location that are authorized to accept Parcel Select Regional Ground mailings.

3.4.2 Parcel Select Regional Ground—OSCF

Parcel Select Regional Ground OSCF prices are available for parcels which are entered at eligible OSCF locations destined to zones local, 1, 2, and 3 from that OSCF entry, and that meet requirements in 3.4.1.

3.4.3 Parcel Select Regional Ground—ONDC

Parcel Select Regional Ground ONDC prices are available for parcels to zones local—8 with the pieces for the ONDC service area segregated from the pieces outside the ONDC service area according to L601 and that meet requirements in 3.4.1.

3.4.4 Parcel Select Regional Ground Eligible Locations

For a listing of eligible OSCF and ONDC locations, contact your local USPS account representative.

3.4.5 Customer Commitment Agreement

Parcel Select Regional Ground prices are available for customers who have a customer commitment agreement with USPS. For additional information, mailers must contact their account manager or the manager, Solutions Development by e-mailing commercialpricing@usps.gov.

* * * * *

3.7 Delivery and Return Addresses

[Revise the third sentence of renumbered 3.7 as follows:]

* * * Except Parcel Select Regional Ground, alternative addressing formats under 602.3.0 or detached address labels under 602.4.0 may be used.

3.8 Hold For Pickup

[Revise renumbered 3.8 as follows:]

Under Hold For Pickup service, only Parcel Select barcoded, nonpresorted parcels and Parcel Select Regional Ground parcels are eligible for this service and are held at a designated Post Office location for pick up by a specified addressee or designee (see 508.7).

454 Postage Payment and Documentation

1.0 Basic Standards for Postage Payment

1.1 Postage Payment Options

* * * * *

[Add new 1.1.1 as follows:]

1.1.2 Postage Payment Options for Parcel Select Regional Ground

The following postage payment standards apply for Parcel Select Regional Ground:

a. Permit imprint must be used for postage payment, and the mailer must have a permit imprint authorization at the eligible OSCF or ONDC where mailings are deposited.

b. Submit all mailings by using the Electronic Verification System (eVS) or submitting an electronic postage statement with a computerized manifest.

c. Mailings may not be entered by Plant Verified Drop Shipment.

* * * * *

455 Mail Preparation

* * * * *

[Add new 7.0 as follows:]

7.0 Preparing Parcel Select Regional Ground

7.1 Definition

Parcel Select Regional Ground parcels (see 453.3.4.1) are lightweight parcels entered at eligible OSCF (zones local, 1, 2, and 3) and ONDC (zones local—8) locations. This product is available to 48 of the continental United States excluding Hawaii, Alaska, territories and possessions, and freely associated States.

7.2 Basic Standards

Parcels must be barcoded, machinable (401.1.5), weigh 5 pounds or less, and measure .35 cubic foot or less.

7.3 Sacking and Labeling

Sacking is not required; however, mailers may prepare Parcel Select Regional Ground machinable parcels in sacks under 2.0 and 7.2 or on pallets under 705.8.0. When presented to USPS, pieces may not be comingled with any other mail class.

7.3.1 Sack Preparation

Sack size, preparation sequence, and Line 1 labeling:

a. OSCF: optional; (no minimum); for Line 1—Use prefix MXD, site name, 3 digit facility identifier (Use the listing for eligible OSCF locations—see 4.5.3.3.4.4).

b. ONDC: optional (no minimum); for Line 1—Utilize L601, Column B.

c. MXD ONDC: optional (no minimum); for Line 1—Use prefix MXD, site name and 3 digit ZIP per L601, Column B.

7.3.2 Sack Line 2

Line 2 labeling and Content Identifier Number (CIN):

a. OSCF: “PSVC MACH WKG,” CIN 684.

b. ONDC: “PSVC MACH NDC,” CIN 683 for pieces destinating within the ONDC service area according to L601.

c. MXD ONDC: “PSVC MACH WKG,” CIN 683 for pieces destinating outside the ONDC service area according to L601.

456 Enter and Deposit

1.0 Verification

1.1 Verification and Entry

[Revise 1.1 by adding a new last sentence as follows:]

* * * Parcel Select Regional Ground mailings may not be entered by PVDS or as a plant-loaded mailing.

1.2 Office of Mailing

[Revise 1.2 by deleting the current text of 1.2 in its entirety and adding new 1.2.1 and 1.2.2 as follows:]

1.2.1 Parcel Select

[Revise the text of 1.2.1 as follows:]

Parcel Select must be mailed at the Post Office from which the zone-based postage was computed, except under 1.2.2, 1.3, and 1.4.

1.2.2 Parcel Select Regional Ground

Parcel Select Regional Ground must be mailed at a business mail entry unit (BMEU) co-located at eligible OSCF or ONDC locations. Mailers may deposit only eVS mailings at eligible OSCF or ONDC locations that are not co-located with a BMEU. For eligible locations, contact your local USPS account representative.

1.3 Redirected Mailings

[Revise the introductory paragraph of 1.3 as follows:]

Except Parcel Select Regional Ground, a shipper who presents large shipments of zoned Parcel Select mail may be authorized or directed to deposit such shipments at another postal facility when processing or logistics make such an alternative desirable for the USPS, subject to these conditions:

* * * * *

1.4 NDC Acceptance

[Revise the introductory text of 1.4 as follows:]

Except Parcel Select Regional Ground, a mailer may present Parcel Select at a NDC for acceptance if: * * *

* * * * *

2.0 Deposit

* * * * *

[Revise the title and first sentence of the introductory paragraph of 2.4 as follows:]

2.4 Mail Separation and Presentation of Destination Entry Mailings

Mailers must have Parcel Select destination entry mailings verified under an authorized PVDS system (see 705.16.0) or eVS (see 705.2.9), or present mailings for verification and acceptance at a BMEU located at a designated destination Postal Service facility. * * *

* * * * *

[Revise the title of 2.16 as follows:]

2.16 DNDC Parcel Select—Acceptance at Designated SCF-USPS Benefit

* * * * *

[Revise the title of 2.17 as follows:]

2.17 DNDC Parcel Select—Acceptance at Designated SCF

* * * * *

[Add new 2.18 as follows:]

2.18 Parcel Select Regional Ground—Deposit at OSCF

Parcel Select Regional Ground mailings that are deposited at the OSCF must include only mailpieces destined for zones local, 1, 2, and 3, but pieces may be destined for addresses outside that OSCF service area.

[Add new 2.19 as follows:]

2.19 Parcel Select Regional Ground—Deposit at ONDC

Parcel Select Regional Ground mailings that are deposited at the ONDC may include mailpieces for zones local—8 but pieces destinating within the ONDC service area must be segregated from pieces destinating outside the ONDC service area according to L601.

* * * * *

500 Additional Mailing Services

503 Extra Services

* * * * *

4.0 Insured Mail

* * * * *

4.2 Basic Information

* * * * *

4.2.2 Eligible Matter

The following types of mail may be insured:

[Revise item c as follows:]

c. Package Services, Parcel Select, and Parcel Select Regional Ground pieces.

* * * * *

9.0 Delivery Confirmation

* * * * *

9.2 Basic Information

* * * * *

9.2.2 Eligible Matter

[Revise the first sentence of the introductory text of 9.2.2 as follows:]

Delivery Confirmation is available for First-Class Mail parcels; all Priority Mail pieces (including Critical Mail); Standard Mail prepared as Not Flat-Machinable pieces or as machinable or irregular parcels (electronic option only); Package Services, Parcel Select, and Parcel Select Regional Ground parcels (electronic option only) under 401.1.0. * * *

* * * * *

10.0 Signature Confirmation

* * * * *

10.2 Basic Information

* * * * *

10.2.2 Eligible Matter

[Revise the first sentence of the introductory text of 10.2.2 as follows:]

Signature Confirmation is available for First-Class Mail parcels; all Priority Mail pieces (including Critical Mail); Package Services, Parcel Select, and Parcel Select Regional Ground (electronic option only) parcels under 401.1.0. * * *

* * * * *

508 Recipient Services

* * * * *

7.0 Hold For Pickup

* * * * *

7.2 Basic Information

* * * * *

7.2.2 Basic Eligibility

[Revise the last sentence of the introductory paragraph for 7.2.2 as follows:]

* * * Hold For Pickup service is also available with online and commercial mailings of Priority Mail (except Critical Mail), First-Class Mail parcels, Parcel Select barcoded, nonpresorted parcels, and Parcel Select Regional Ground parcels when: * * *

* * * * *

7.2.3 Additional Eligibility Standards

Parcels must meet these additional physical requirements:

* * * * *

[Revise items 7.2.3b and c as follows:]

b. Except as provided in 7.2.3c, Parcel Select barcoded, nonpresorted parcels, and Parcel Select Regional Ground parcels must be greater than 3/4 inch thick at the thickest point.

c. If the mailpiece is a Parcel Select barcoded, nonpresorted parcel, or Parcel Select Regional Ground parcel under 401.1.0 and no greater than ¾ inch thick, the contents must be prepared in a container that is constructed of strong, rigid fiberboard or similar material or in a container that becomes rigid after the contents are enclosed and the container is secured. The parcel must be able to maintain its shape, integrity, and rigidity throughout processing and handling without collapsing into a letter-size or flat-size piece.

7.2.4 Service Options

The Hold For Pickup service options are:

* * * * *

[Revise the second sentence of 7.2.4b as follows:]

b. Electronic option: * * * The electronic option is available for Priority Mail (excluding Critical Mail), First-Class Mail parcels, Parcel Select barcoded, nonpresorted parcels, and Parcel Select Regional Ground parcels. * * *

* * * * *

7.3 Preparation Definitions and Instructions

Except for Express Mail Hold For Pickup presented at retail Post Office locations, mailers or their agents must prepare mailpieces bearing the “Hold For Pickup” label as follows:

[Revise 7.3a as follows:]

a. Enter mailpieces at the Priority Mail, First-Class Mail parcel, Parcel Select barcoded, nonpresorted, or Parcel Select Regional Ground price.

* * * * *

600 Basic Standards for All Mailing Services

* * * * *

602 Addressing

1.0 Elements of Addressing

* * * * *

1.5 Return Addresses

* * * * *

1.5.3 Required Use of Return Addresses

The sender's domestic return address must appear legibly on:

* * * * *

[Revise the text of 1.5.3h as follows:]

h. Parcel Select (including Parcel Select Regional Ground).

* * * * *

3.0 Use of Alternative Addressing

3.1 General Information

3.1.1 Use

* * * * *

3.1.2 Prohibited Use

Alternative addressing formats may not be used on:

[Revise 3.1.2 by reallocating items d through e as items e through f and add new item d as follows:]

d. Parcel Select Regional Ground pieces.

* * * * *

700 Special Standards

* * * * *

705 Advanced Preparation and Special Postage Payment Systems

* * * * *

2.0 Manifest Mailing System

2.1 Description

2.1.1 Using an MMS

[Revise 2.1.1 by adding Parcel Select Regional Ground to the second sentence as follows:]

* * * The MMS is an automated system that allows a mailer to document postage and fees for all pieces in Express Mail (electronic verification system “eVS” only under 2.9), First-Class Mail, Standard Mail, Parcel Select, Parcel Select Regional Ground, Package Services, and international permit imprint mailings. * * *

2.1.2 Electronic Verification System

[Revise first sentence of 2.1.2 and add a new last sentence as follows:]

Mailers using a MMS when presenting Parcel Select Regional Ground mailings; Parcel Select destination entry mailings under 456.2.0 or, commingled parcel mailings under 6.0 or 7.0, may document and pay postage using the Electronic Verification System (eVS) (see 2.9). * * * Parcel Select Regional Ground eVS and non-eVS mail cannot be commingled within the same mailing or mailing container with any other mail class. eVS Regional Ground ONDC mailpieces for zones local—8 must be segregated by pieces destinating within the ONDC service area from pieces destinating outside the service area according to L601.

* * * * *

2.9 Electronic Verification System

* * * * *

2.9.2 Availability

[Revise the introductory text of 2.9.2 as follows:]

eVS may be used only for mail paid with a permit imprint and the following classes and subclasses of mail:

* * * * *

[Revise 2.9.2 by reallocating items h through j as i through k and adding new item h as follows:]

h. Parcel Select Regional Ground. Prices include nonpresorted prices for machinable, barcoded parcels entered at eligible OSCF and ONDC locations.

* * * * *

6.0 Combining Mailings of Standard Mail, Package Services, and Parcel Select Parcels

6.1 Basic Standards for Combining Parcels and NFMs

6.1.1 Basic Standards

[Revise the introductory text of 6.1.1 as follows:]

Standard Mail parcels, NFMs, Package Services, and Parcel Select parcels (except Parcel Select Regional Ground) in combined mailings must meet the following standards:

* * * * *

7.0 Combining Package Services and Parcel Select Parcels for Destination Entry

7.1 Combining Parcels—DSCF and DDU Entry

7.1.1 Qualification

[Revise 7.1.1 by adding a new last sentence as follows:]

* * * Mailers may not combine Parcel Select Regional Ground parcels with Parcel Select or other parcels.

* * * * *

8.0 Preparing Pallets

* * * * *

8.5 General Preparation

* * * * *

8.5.2 Required Preparation

[Revise the introductory text of 8.5.2 as follows:]

The following standards apply to Periodicals, Standard Mail, Parcel Select, Parcel Select Regional Ground, and Package Services, except Parcel Select mailed at NDC Presort, ONDC Presort, DSCF, and DDU prices.

* * * * *

16.0 Plant-Verified Drop Shipment

16.1 Description

* * * * *

16.1.2 Function

Under PVDS:

* * * * *

[Revise item 16.1.2c as follows:]

c. For Standard Mail, Parcel Select (except Parcel Select Regional Ground), and Package Services, postage and fees are paid under a valid permit at the Post Office serving the mailer's plant, or as designated by the district manager.

* * * * *

21.0 Optional Combined Parcel Mailings

21.1 Basic Standards for Combining Parcel Select, Package Services, and Standard Mail Parcels

21.1.1 Basic Standards

[Revise the introductory text of 21.1.1 as follows:]

Package Services parcels, Parcel Select parcels (except Parcel Select Regional Ground), Standard Mail parcels and Not Flat-Machinables (NFMs) in a combined parcel mailing must meet the following standards:

* * * * *

708 Technical Specifications

* * * * *

6.0 Standards for Barcoded Tray Labels, Sack Labels, and Container Placards

* * * * *

6.2 Specifications for Barcoded Tray and Sack Labels

* * * * *

6.2.4 3-Digit Content Identifier Numbers

* * * * *

Exhibit 6.2.4 3-Digit Content Identifier Numbers

CLASS AND MAILING CIN HUMAN-READABLE CONTENT LINE

* * * * *

[Revise Exhibit 6.2.4 by modifying the Parcel Select section as follows:]

Package Services

* * * * *

[Revise Package Services by adding new Parcel Select Regional Ground section directly after Parcel Select—Irregular (Nonmachinable) Parcels as follows:]

Parcel Select Regional Ground Machinable Parcels

ONDC sacks | 683 | PSVC MACH NDC.
MXD ONDC sacks | 683 | PSVC MACH WKG.
OSCF sacks | 684 | PSVC MACH WKG.

* * * * *

Index and Appendices

* * * * *

Labeling Lists

* * * * *

[Revise the title of L600 as follows:]

L600 Standard Mail, Package Services, and Parcel Select Regional Ground

L601 Network Distribution Centers (NDCs)

[Revise L601 by adding new item g as follows:]

g. Parcel Select Regional Ground nonpresorted, machinable parcels or sacks on pallets to ONDC destinations. For labeling ONDC sacks and pallets, mailers must use Column B information of the ONDC serving the 3-digit ZIP Code prefix of the Post Office at which the mail is entered.

* * * * *

We will publish an appropriate amendment to 39 CFR Part 111 to reflect these changes.

Neva R. Watson,
Attorney, Legislative.

[FR Doc. 2011-6057 Filed 3-15-11; 8:45 am]

BILLING CODE 7710-12-P